DEPARTMENT OF HOMELAND SECURITY

Federal Emergency Management Agency

[Docket ID FEMA-2019-0002; Internal Agency Docket No. FEMA-B-1911]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before June 3, 2019.

ADDRESSES: The Preliminary FIRM, and where applicable, the FIS report for each community are available for inspection at both the online location https://www.fema.gov/preliminaryfloodhazarddata and the respective Community Map Repository address listed in the tables below. Additionally, the current effective FIRM and FIS report for each community are accessible online through the FEMA Map Service Center at https://msc.fema.gov for comparison.

You may submit comments, identified by Docket No. FEMA-B-1911, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://www.fema.gov/preliminaryfloodhazarddata and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

Community | Community map repository address
Allamakee County, Iowa and Incorporated Areas
Project: 16-07-2070S Preliminary Date: April 16, 2018
City of Harpers Ferry | City Hall, 238 North 4th Street, Harpers Ferry, IA 52146.
City of Lansing | City Hall, 201 John Street, Lansing, IA 52151.
City of New Albin | Municipal Building, 164 Elm Street Northeast, New Albin, IA 52160.
City of Postville | City Clerk's Office, 147 North Lawler Street, Postville, IA 52162.
City of Waterville | City Hall, 82 Main Street, Waterville, IA 52170.
City of Waukon | City Hall, 101 Allamakee Street, Waukon, IA 52172.
Unincorporated Areas of Allamakee County | Allamakee County Courthouse, 110 Allamakee Street, Waukon, IA 52172.
Clinton County, Iowa and Incorporated Areas
Project: 16-07-2175S Preliminary Date: April 30, 2018
City of Andover | Clinton County Satellite Offices, 226 11th Street, DeWitt, IA 52742.
City of Calamus | Clinton County Satellite Offices, 226 11th Street, DeWitt, IA 52742.
City of Camanche | City Hall, 818 7th Avenue, Camanche, IA 52730.
City of Charlotte | City Hall, 102 Charles Street, Charlotte, IA 52731.
City of Clinton | City Hall, 611 South 3rd Street, Clinton, IA 52732.
City of DeWitt | City Hall, 510 9th Street, DeWitt, IA 52742.
City of Goose Lake | City Hall, 1 School Lane, Goose Lake, IA 52750.
City of Grand Mound | City Hall, 615 Sunnyside Street, Grand Mound, IA 52751.
City of Lost Nation | City Hall, 410 Main Street, Lost Nation, IA 52254.
City of Low Moor | City Hall, 323 3rd Avenue, Low Moor, IA 52757.
City of Toronto | City Hall, 300 Mill Street, Toronto, IA 52777.
City of Welton | Clinton County Satellite Offices, 226 11th Street, DeWitt, IA 52742.
City of Wheatland | City Hall, 205 East Jefferson Street, Wheatland, IA 52777.
Unincorporated Areas of Clinton County | Clinton County Satellite Offices, 226 11th Street, DeWitt, IA 52742.
Delaware County, Iowa and Incorporated Areas
Project: 16-07-2177S Preliminary Date: May 29, 2018
City of Colesburg | City Hall, 317 Main Street, Colesburg, IA 52035.
City of Delaware | City Hall, 110 East Washington Street, Delaware, IA 52036.
City of Delhi | City Office, 316 Franklin Street, Delhi, IA 52223.
City of Dundee | Fire Station—Community Room, 115 North Center Street, Dundee, IA 52038.
City of Earlville | City Office, 12 East Southside Road, Earlville, IA 52041.
City of Greeley | City Hall, 210 West 3rd Street, Greeley, IA 52050.
City of Hopkinton | City Hall, 115 1st Street Southeast, Hopkinton, IA 52237.
City of Manchester | City Hall, 208 East Main Street, Manchester, IA 52057.
City of Masonville | City Hall, 606 Gordon Street, Masonville, IA 50654.
City of Ryan | City Hall, 405 Franklin Street, Ryan, IA 52330.
Unincorporated Areas of Delaware County | Delaware County Engineering Office, 2139 Highway 38, Manchester, IA 52057.
Jefferson County, Iowa and Incorporated Areas
Project: 16-07-2304S Preliminary Date: May 29, 2018
City of Batavia | City Hall, 304 Alto Street, Batavia, IA 52533.
City of Fairfield | City Hall, 118 South Main Street, Fairfield, IA 52556.
City of Maharishi Vedic City | City Hall, 1750 Maharishi Center Avenue, Maharishi Vedic City, IA 52556.
Unincorporated Areas of Jefferson County | Jefferson County Courthouse, 51 East Briggs Avenue, Fairfield, IA 52556.
Jones County, Iowa and Incorporated Areas
Project: 16-07-2309S Preliminary Date: April 30, 2018
City of Anamosa | City Hall, 107 South Ford Street, Anamosa, IA 52205.
City of Monticello | City Hall, 200 East 1st Street, Monticello, IA 52310.
City of Morley | City Hall, 507 Vine Street, Morley, IA 52312.
City of Olin | City Hall, 303 Jackson Street, Olin, IA 52320.
City of Oxford Junction | City Hall, 103 East Broadway Street, Oxford Junction, IA 52323.
City of Wyoming | City Hall, 141 West Main Street, Wyoming, IA 52362.
Unincorporated Areas of Jones County | Jones County Engineer's Office, 19501 Highway 64, Anamosa, IA 52205.

[FR Doc. 2019-03860 Filed 3-4-19; 8:45 am]

BILLING CODE 9110-12-P